DEPARTMENT OF COMMERCE

National Oceanic and Atmospheric Administration

50 CFR Part 665

[RTID 0648-XA683]

Pacific Island Fisheries; 2020 U.S. Territorial Longline Bigeye Tuna Catch Limits for the Commonwealth of the Northern Mariana Islands; Correction

AGENCY: National Marine Fisheries Service (NMFS), National Oceanic and Atmospheric Administration (NOAA), Commerce.

ACTION: Announcement of a valid specified fishing agreement; correction.

SUMMARY: NMFS published a document in the Federal Register of November 23, 2020, announcing a valid specified fishing agreement that allocates up to 1,000 metric tons (t) of the 2020 bigeye tuna limit for the Commonwealth of the Northern Mariana Islands (CNMI) to U.S. longline fishing vessels. The document incorrectly referred to American Samoa.

DATES: December 2, 2020.

FOR FURTHER INFORMATION CONTACT: Lynn Rassel, NMFS PIRO Sustainable Fisheries, 808-725-5184.

SUPPLEMENTARY INFORMATION:

Correction

In the Federal Register of November 23, 2020, in FR Doc. 2020-25806, on page 74615, in the first column, correct the second sentence of the DATES caption to read: The start date for attributing 2020 bigeye tuna catch to the CNMI was November 15, 2020.

Authority: 16 U.S.C. 1801 et seq.

Dated: November 24, 2020.
Jennifer M. Wallace,
Acting Director, Office of Sustainable Fisheries, National Marine Fisheries Service.

[FR Doc. 2020-26363 Filed 12-1-20; 8:45 am]

BILLING CODE 3510-22-P